SMALL BUSINESS ADMINISTRATION

Public Federal Regulatory Enforcement Fairness Hearing; Region VI Regulatory Fairness Board

The Small Business Administration Region VI Regulatory Fairness Board and the SBA Office of the National Ombudsman, will hold a Public Hearing on Monday, February 25, 2002 at 1:00 p.m. at the Wells Fargo Bank, Southeast & Southwest Rooms, 2nd Floor, 200 Lomas Boulevard NE, Albuquerque, New Mexico, to receive comments and testimony from small business owners, small government entities, and small non-profit organizations concerning the regulatory enforcement and compliance actions taken by federal agencies.

Anyone wishing to attend or to make a presentation must contact Susan Chavez in writing or by fax, in order to be put on the agenda. Susan Chavez, U.S. Small Business Administration, New Mexico District Office, 625 Silver Avenue S.W., Suite 320, Albuquerque, NM 87102, Phone (505) 346-6767 or (505) 346-6759, fax (505) 346-6711, e-mail: Susan.Chavez@sba.gov.

For more information see our website at http://www.sba.gov/ombudsman/dsp—hearings.html

Dated: February 12, 2002.
Michael L. Barrera,
National Ombudsman.

[FR Doc. 02-4011 Filed 2-15-02; 8:45 am]

BILLING CODE 8025-01-P